DEPARTMENT OF AGRICULTURE

Rural Utilities Service

Rural Housing Service

Rural Business-Cooperative Service

7 CFR Part 5001

[Docket No. RUS-19-Agency-0030]

RIN 0572-AC56

OneRD Guaranteed Loan Regulation

AGENCY: Rural Business-Cooperative Service, Rural Housing Service, Rural Utilities Service, USDA.

ACTION: Final rule; confirmation.

SUMMARY: Rural Development's Rural Business-Cooperative Service, Rural Housing Service, and Rural Utilities Service (hereinafter “the Agency”), agencies of the United States Department of Agriculture (USDA), published in the Federal Register on December 10, 2021, a final rule with request for comments. This document presents the opportunity for the Agency to confirm the final rule as published.

DATES: As of April 27, 2022, the effective date of the final rule published December 10, 2021 at 86 FR 70349 and corrected February 9, 2022 at 87 FR 7367 is confirmed.

FOR FURTHER INFORMATION CONTACT: Lauren Cusick, Regulations Management Division, Rural Development Innovation Center, U.S. Department of Agriculture, 1400 Independence Ave. SW, Stop 1522, Washington, DC 20250; telephone (202) 720-1414; email lauren.cusick@usda.gov.

SUPPLEMENTARY INFORMATION: The Agency published a final rule with request for comments in the Federal Register on December 10, 2021 at 86 FR 70349. A subsequent correction notice was published on February 9, 2022 at 87 FR 7367. The final rule made necessary revisions to the policy and procedures which will strengthen oversight and management of the growing Community Facilities (CF), Water and Waste Disposal (WWD), Business and Industry (B&I), and Rural Energy for America (REAP) guarantee portfolios. This action was part of a continuing effort by the Agency to improve customer service for its lenders and create a more efficient work process for its staff.

The comment period on the final rule closed February 8, 2022. The Agency did not receive any comments during the public comment period on the final rule, and therefore confirms the rule without change.

Justin Maxson,
Deputy Under Secretary, Rural Development.

[FR Doc. 2022-08695 Filed 4-26-22; 8:45 am]

BILLING CODE 3410-15-P